DEPARTMENT OF AGRICULTURE

National Institute of Food and Agriculture

RIN 0524-AA43

Solicitation of Input From Stakeholders Regarding Administration of the Veterinary Medicine Loan Repayment Program (VMLRP)

AGENCY: National Institute of Food and Agriculture, USDA.

ACTION: Notice of public meeting and request for stakeholder input.

SUMMARY: The National Institute of Food and Agriculture (NIFA) is soliciting stakeholder input on the recent implementation of the Veterinary Medicine Loan Repayment Program (VMLRP) authorized under section 1415A of the National Agricultural Research, Extension, and Teaching Policy Act of 1977 (7 U.S.C. 3151a). The purpose of this program is for the U.S. Department of Agriculture (USDA) to enter into agreements with veterinarians under which the veterinarians agree to provide, for a specific period of time as identified in the agreement, veterinary services in veterinarian shortage situations. As part of the stakeholder input process, NIFA is conducting a public meeting to solicit comments regarding the processes developed and implemented for the first application cycle that concluded with the first group of awards under this program in September 2010. Input collected will be used to modify and improve processes for subsequent calls of shortage situation nominations and request for applications.

DATES: The meeting will be held on Monday, November 8, 2010, from 9 a.m. to 3:30 p.m. All comments must be received by close of business Monday, November 15, 2010, to be considered.

ADDRESSES: The meeting will be held in room 1410 A-B-C-D of the Waterfront Centre Building, National Institute of Food and Agriculture, United States Department of Agriculture, 800 9th St., SW., Washington, DC 20024. Meeting participants will need to provide photo identification to be admitted to the building. Please allow sufficient time to go through security. You may submit comments, identified by NIFA-2011-0001, by any of the following methods:

Federal eRulemaking Portal: http://www.regulations.gov. Follow the instructions for submitting comments.

E-mail: vmlrp@nifa.usda.gov. Include NIFA-2011-0001 in the subject line of the message.

Fax: 202-720-6486.

Mail: Paper, disk or CD-ROM submissions should be submitted to VMLRP, Plant and Animal Systems (PAS) Unit, National Institute of Food and Agriculture, U.S. Department of Agriculture; STOP 2220, 1400 Independence Avenue, SW., Washington, DC 20250-2220.

Hand Delivery/Courier: VMLRP; Plant and Animal Systems (PAS) Unit, National Institute of Food and Agriculture, U.S. Department of Agriculture, Room 3153, Waterfront Centre, 800 9th Street, SW., Washington, DC 20024.

Instructions: All submissions received must include the agency name and NIFA-2011-0001. All comments received will be posted to http://www.regulations.gov, including any personal information provided.

FOR FURTHER INFORMATION CONTACT: Ms. Lisa Stephens, (202) 401-6438, or lstephens@nifa.usda.gov.

SUPPLEMENTARY INFORMATION:

Additional Meeting and Comment Procedures

Because of the diversity of subjects, and to aid participants in scheduling their attendance, the following schedule is anticipated for the November 8, 2010, meeting:

9-9:30 a.m.— Introduction and Background of VMLRP.

9:30-12 p.m.—Identification and prioritization of veterinarian shortage situations.

1-3:30 p.m.—Administration of the VMLRP, including application forms; timing and length of VMLRP application period; application prioritization and review; execution of VMLRP agreements; agreement terms and conditions; and monitoring and oversight of VMLRP agreements.

Persons wishing to present oral comments at this meeting are requested to pre-register by contacting Ms. Lisa Stephens at (202) 401-6438, by fax at (202) 401-6156 or by e-mail to lstephens@nifa.usda.gov. Participants may reserve one 5-minute comment period per topic area, and should indicate the topic area(s) for which they are registering (i.e., identification of veterinarian shortage situations and/or administration of the VMLRP). For any participant who may require only one 5-minute period to fully present testimony regarding both topic areas, the participant should indicate this intention and may reserve their 5-minute comment period under one of the two topic areas. More time may be available, depending on the number of people wishing to make a presentation and the time needed for questions following presentations. Reservations will be confirmed on a first-come, first-served basis. All other attendees may register at the meeting. Written comments may also be submitted for the record at the meeting. All comments must be received by close of business Monday, November 15, 2010, to be considered. All comments and the official transcript of the meeting, when they become available, may be reviewed on the NIFA Web site for six months. Participants who require a sign language interpreter or other special accommodations should contact Ms. Stephens as directed above.

Background and Purpose

Note: On October 1, 2009, the Cooperative State Research, Education, and Extension Service (CSREES) became the National Institute of Food and Agriculture (NIFA) as mandated by the Food, Conservation, and Energy Act of 2008 (FCEA), section 7511(f).

In December 2003, the National Veterinary Medical Service Act (NVMSA) was passed into law adding section 1415A to the National Agricultural Research, Extension, and Teaching Policy Act of 1977 (NARETPA). This law established a new Veterinary Medicine Loan Repayment Program (7 U.S.C. 3151a) authorizing the Secretary of Agriculture (Secretary) to carry out a program of entering into agreements with veterinarians under which they agree to provide veterinary services in veterinarian shortage situations. In November 2005, the Agriculture, Rural Development, Food and Drug Administration, and Related Agencies Appropriations Act, 2006 (Pub. L. 109-97), appropriated $495,000 to implement the Veterinary Medicine Loan Repayment Program (VMLRP) and represented the first time funds had been appropriated for this program. In February 2007, the Revised Continuing Appropriations Resolution, 2007 (Pub. L. 110-5), appropriated an additional $495,000 for support of the program, and in December 2007, the Consolidated Appropriations Act, 2008 (Pub. L. 110-161), appropriated an additional $868,875 for support of this program, and on March 11, 2009, the Omnibus Appropriations Act, 2009 (Pub. L. 111-8) was enacted, providing an additional $2,950,000, for the VMLRP. In October 2009, the President signed into law, Pub. L. 111-80, Agriculture, Rural Development, Food and Drug Administration, and Related Agencies Appropriations Act of 2010, which appropriated $4,800,000 for the VMLRP. Consequently, there was a cumulative total of approximately $9.6 million available for NIFA to administer this program when NIFA rolled out its first Request for Applications for this program on April 30, 2010.

The first VMLRP application period resulted in 260 applications in which 62 applications were selected for loan repayment awards totaling $5,988,086.

Section 7105 of the FCEA amended section 1415A to revise the determination of veterinarian shortage situations to consider (1) geographical areas that the Secretary determines have a shortage of veterinarians; and (2) areas of veterinary practice that the Secretary determines have a shortage of veterinarians, such as food animal medicine, public health, epidemiology, and food safety. This section also added that priority should be given to agreements with veterinarians for the practice of food animal medicine in veterinarian shortage situations.

NARETPA section 1415A requires the Secretary, when determining the amount of repayment for a year of service by a veterinarian, to consider the ability of USDA to maximize the number of agreements from the amounts appropriated and to provide an incentive to serve in veterinary service shortage areas with the greatest need. This section also provides that loan repayments may consist of payments of the principal and interest on government and commercial loans received by the individual for the attendance of the individual at an accredited college of veterinary medicine resulting in a degree of Doctor of Veterinary Medicine or the equivalent. This program is not authorized to provide repayments for any government or commercial loans incurred during the pursuit of another degree, such as an associate or bachelor degree. Loans eligible for repayment include educational loans made for one or more of the following: Loans for tuition expenses; other reasonable educational expenses, including fees, books, and laboratory expenses, incurred by the individual; and reasonable living expenses as determined by the Secretary. In addition, the Secretary is directed to make such additional payments to participants as the Secretary determines appropriate for the purpose of providing reimbursements to participants for individual tax liability resulting from participation in this program. The Secretary delegated the authority to carry out this program to NIFA.

NIFA is holding a public meeting to obtain comments to use in improving the administration of the VMLRP. The meeting is open to the public. Written comments and suggestions on issues that may be considered during the meeting may be submitted to the NIFA Docket Clerk at the address above.

Done in Washington, DC, this 7th day of October 2010.
Meryl Broussard,
Deputy Director, National Institute of Food and Agriculture.

[FR Doc. 2010-25827 Filed 10-13-10; 8:45 am]

BILLING CODE 3410-22-P